DEPARTMENT OF TRANSPORTATION

Federal Aviation Administration

14 CFR Part 25

[Docket No. FAA-2015-3367; Special Conditions No. 25-596-SC]

Special Conditions: Flight Structures, Inc., Boeing Model 777-200 Dynamic Test Requirements for Single-Occupant, Oblique (Side-Facing) Seats With Airbag Devices

AGENCY: Federal Aviation Administration (FAA), DOT.

ACTION: Final special conditions; request for comments; correction.

SUMMARY: This document corrects an error that appeared in Docket No. FAA-2015-3367, Special Conditions No. 25-596-SC, which was published in the Federal Register on September 30, 2015 (80 FR 58597). The error is in a reference to Boeing in a note preceding a section titled, Inflatable Lap Belt Special Conditions. It is being corrected herein.

DATES: The effective date of this correction is November 20, 2015.

FOR FURTHER INFORMATION CONTACT: John Shelden, FAA, Airframe and Cabin Safety Branch, ANM-115, Transport Airplane Directorate, Aircraft Certification Service, 1601 Lind Avenue SW., Renton, Washington 98057-3356; telephone 425-227-2785; facsimile 425-227-1149.

SUPPLEMENTARY INFORMATION: The document designated as “Docket No. FAA-2015-3367, Special Conditions No. 25-596-SC” was published in the Federal Register on September 30, 2015 (80 FR 58597). The document issued special conditions pertaining to dynamic test requirements for single-occupant, oblique (side-facing) seats with airbag devices on Boeing Model 777-200 airplanes.

As published, the document contained one error in a note that refers to Boeing rather than Flight Structures, Inc.

Because no other part of the regulatory information has been changed, the Special Conditions are not being re-published.

Correction

In the Final Special Conditions, Request for Comments document [FR Doc. 2015-24727 filed 9-29-15; 8:45 a.m.] published on September 30, 2015 (80 FR 58597), make the following correction:

On page 58599, column 3, the paragraph marked “Note:” should read:

Note: Flight Structures, Inc., must demonstrate that the installation of seats via plinths or pallets meets all applicable requirements. Compliance with the guidance contained in FAA Policy Memorandum PS-ANM-100-2000-00123, dated February 2, 2000, titled “Guidance for Demonstrating Compliance with Seat Dynamic Testing for Plinths and Pallets,” is acceptable to the FAA.

Issued in Renton, Washington, on November 11, 2015.
Michael Kaszycki,
Acting Manager, Transport Airplane Directorate, Aircraft Certification Service.

[FR Doc. 2015-29624 Filed 11-19-15; 8:45 am]

BILLING CODE 4910-13-P